DEPARTMENT OF AGRICULTURE

Forest Service

Aerial Application of Fire Retardant Environmental Assessment, in Accordance With the National Environmental Policy Act of 1969 (47 U.S.C. 4321 et seq.)

AGENCY: Forest Service, USDA.

ACTION: Notice of proposed action to conduct an environmental analysis and prepare an environmental assessment; request for comment.

SUMMARY: The Forest Service proposes to conduct an environmental analysis and prepare an environmental assessment on the continued nationwide aerial application of fire retardant for fire suppression. The responsible official for this action is Dale Bosworth, Chief of the Forest Service. The Forest Service invites comments at this time on the proposed action.

DATES: Comments must be received, in writing, on or before August 28, 2006.

ADDRESSES: The scoping letter and other information related to the proposed action are available at http://www.fs.fed.us/fire/retardant/index.html. Written comments concerning this notice should be addressed to USFS Fire Retardant EA, c/o The Content Analysis Group, P.O. Box 2000, Bountiful, UT 84001-2000. Comments may also be sent electronically to fireas@contentanalysisgroup.com, or via facsimile to 801-397-2601. Please prepare electronic files in either rich text format (.rft) or as a Microsoft Word document (.doc).

All comments, including names and addresses when provided, are placed in the record and are available for public inspection and copying. The public may electronically inspect comments received and should call 801-517-1037 to obtain Web site address and a password. The public may also inspect comments hardcopy at the USDA Forest Service in Salt Lake City, Utah. Visitors are encouraged to call ahead to 801-517-1037 to facilitate entry to the building.

FOR FURTHER INFORMATION CONTACT: Please contact Chris Wehrli, interdisciplinary team leader, at 202-205-1332.

Individuals who use telecommunication devices for the deaf (TDD) may call the Federal Information Relay Service (FIRS) at 1-800-877-8339 between 8 a.m. and 8 p.m., Eastern Standard Time, Monday through Friday.

SUPPLEMENTARY INFORMATION: In accordance with the National Environmental Policy Act of 1969, the Forest Service will conduct an environmental analysis and prepare an environmental assessment to determine whether the continued nationwide aerial application of fire retardant to fight fires would result in any significant environmental impacts.

It is important that those interested in this proposed action participate at this time. To be most helpful, comments should be as specific as possible. Written comments provide a record of concerns and will be considered to conduct an environmental analysis and prepare an environmental assessment. The Forest Service is seeking information, comments, and assistance from federal, state, and local agencies, tribes, and other individuals or organizations that might be interested in or affected by the proposal.

After completing a detailed environmental analysis and a review and response to the public comments received on the proposed action, the Forest Service will prepare an environmental assessment and a Decision Notice that will be signed by the Chief of the Forest Service.

The Forest Service is working to restore fire-adapted ecosystems through prescribed fire, other fuel treatments and wildland-fire use. However, in some circumstances, fire must be suppressed. For example, fires might need to be suppressed to protect and preserve natural resources, critical habitat for threatened and endangered species, and protect life and property. Fire retardant is one of the tools used to suppress fires.

The Forest Service is taking two mitigation measures to lessen the impact of fire retardant on the environment. First, after the 2006 fire season, the Forest Service will no longer purchase or use fire retardants that contain sodium ferrocyanide because, under certain conditions, it poses greater toxicity to aquatic species and aquatic environments than retardant solutions that do not contain this ingredient. Second, the Forest Service prohibits the aerial application of fire retardant within 300 feet of waterways visible to pilots, with certain limited exceptions. See the Guidelines for Aerial Application of Retardants and Foams in Aquatic Environments (April 20, 2000) at http://www.fs.fed.us/rm/fire/retardants/current/gen/appguide.htm for more details.

The Forest Service proposes to analyze at a nationwide scale the environmental effects of the continued aerial application of fire retardants. In preparing an environmental assessment, the Forest Service will determine whether there are significant effects on the human environment. If there are significant effects, the Forest Service will prepare an environmental impact statement. If the Forest Service determines that there are no significant effects, the Forest Service will issue a finding of no significant impact. The Forest Service seeks comments at this time on this proposal.

The Forest Service has previously consulted with the Fish and Wildlife Service and with the National Marine Fisheries Service in developing the Guidelines for Aerial Application of Retardants and Foams referenced above. The Forest Service will consult with the above agencies when conducting the environmental analysis and preparing an environmental assessment on the proposed action.

Dated: July 21, 2006,
Dale N. Bosworth,
Chief, Forest Service.

[FR Doc. E6-12115 Filed 7-27-06; 8:45 am]

BILLING CODE 3410-11-P